DEPARTMENT OF ENERGY

Federal Energy Regulatory Commission

[Docket No. EG00-94-000, et al.]

Northeast Generation Company, et al.; Electric Rate and Corporate Regulation Filings

February 17, 2000.

Take notice that the following filings have been made with the Commission:

1. Northeast Generation Company

[Docket No. EG00-94-000]

Take notice that on February 14, 2000, Northeast Generation Company, P.O. Box 270, Hartford, Connecticut, 06141, filed with the Federal Energy Regulatory Commission an application for determination of exempt wholesale generator status pursuant to Part 365 of the Commission's regulations.

Northeast Generation Company, a Connecticut corporation, proposes to acquire 13 electric generating stations currently owned by The Connecticut Light and Power Company and Western Massachusetts Electric Company and to sell the electric energy at wholesale. The transaction is the result of an auction of those assets held in accordance with the retail restructuring plans in Connecticut and Massachusetts. State Commission determinations allowing such facilities to become eligible facilities have been issued by the Connecticut Department of Public Utility Control, the Massachusetts Department of Telecommunications and Energy, and the New Hampshire Public Utilities Commission.

Comment date: March 9, 2000, in accordance with Standard Paragraph E at the end of this notice. The Commission will limit its consideration of comments to those that concern the adequacy or accuracy of the application.

2. DTE Edison America, Inc. Nine Energy Services, LLC Starghill Alternative Energy Corporation Stand Energy Corporation

[Docket Nos. ER98-3026-006, ER98-1915-007, ER97-4680-008, and ER95-362-020]

Take notice that on February 14, 2000, the above-mentioned power marketers filed quarterly reports with the Commission in the above-mentioned proceedings for information only.

3. California Independent System Operator Corporation

[Docket No. ER98-2843-010]

Take notice that on February 14, 2000, the California Independent System Operator Corporation (ISO), tendered for filing proposed changes in its FERC Electric Tariff, Volume Nos. I and III to comply with the Commission's order in California Independent System Operator Corp., 90 FERC ¶ 61,036 (2000). The ISO states that this filing has been served upon all parties in this proceeding.

Comment date: March 6, 2000, in accordance with Standard Paragraph E at the end of this notice.

4. Madison Gas and Electric Company

[Docket No. ER00-586-001]

Take notice that on February 14, 2000, Madison Gas and Electric Company (MGE) filed Original Sheet No. 4 of MGE's FERC Tariff Original Volume No. 4 in final form and in redline/strikeout form to show the changes. This sheet is being revised in response to the letter order dated February 9, 2000, in the above-referenced docket.

MGE's market-based rate tariff is effective February 15, 2000.

Comment date: March 6, 2000, in accordance with Standard Paragraph E at the end of this notice.

5. Allegheny Energy Service Corporation, on behalf of Monongahela Power Company, The Potomac Edison Company and West Penn Power Company (Allegheny Power)

[Docket No. ER00-1262-000]

Take notice that on February 14, 2000, Allegheny Energy Service Corporation on behalf of Monongahela Power Company, The Potomac Edison Company and West Penn Power Company (Allegheny Power), tendered for filing a request to amend their Pro Forma Open Access Transmission Tariff (OATT) to substitute sheets reflecting changes previously accepted by the Commission in an Order dated November 14, 1997, and to change the basis of the energy charge in Schedule 9 of the OATT.

Copies of the filing were served upon the public utility's jurisdictional customers and the Public Utilities Commission of Ohio, the Pennsylvania Public Utility Commission, the Maryland Public Service Commission, the Virginia State Corporation Commission, the West Virginia Public Service Commission, and all parties of record.

Comment date: March 6, 2000, in accordance with Standard Paragraph E at the end of this notice.

6. Central Illinois Light Company

[Docket No. ER00-1614-000]

Take notice that on February 14, 2000, Central Illinois Light Company (CILCO), 300 Liberty Street, Peoria, Illinois 61202, tendered for filing with the Commission a substitute Index of Customers under its Coordination Sales Tariff and one service agreement with one new customer, EnerStar Power Corp.

CILCO requested an effective date of February 1, 2000.

Copies of the filing were served on the affected customer and the Illinois Commerce Commission.

Comment date: March 6, 2000, in accordance with Standard Paragraph E at the end of this notice.

7. Louisville Gas and Electric Company/Kentucky Utilities Company

[Docket No. ER00-1615-000]

Take notice that on February 14, 2000, Louisville Gas and Electric Company (LG&E)/Kentucky Utilities (KU) (hereinafter Companies), tendered for filing an executed unilateral Service Agreement between the Companies and Citizens Power Sales under the Companies Rate Schedule MBSS.

Comment date: March 6, 2000, in accordance with Standard Paragraph E at the end of this notice.

8. Detroit Edison Company Consumers Energy Company

[Docket No. ER00-1616-000]

Take notice that on February 14, 2000, Detroit Edison Company (Detroit Edison), on behalf of itself and Consumers Energy Company (Consumers), tendered for filing addenda to various rate schedules that would permit the incremental cost of sulfur dioxide (SO2) emissions allowances to be included in the calculation of rates under those rate schedules. The rate schedules affected are: Detroit Edison Company Rate Schedule FERC No. 22 and Consumers Energy Company Rate Schedule FERC No. 41.

The change is designed to conform the rate schedules to the Commission's rule regarding the ratemaking treatment of SO2 emissions allowances for Phase II units issued under the Clean Air Act Amendments of 1990. A copy of the filing was served upon the Michigan Public Service Commission.

Comment date: March 6, 2000, in accordance with Standard Paragraph E at the end of this notice.

9. Central Illinois Light Company

[Docket No. ER00-1617-000]

Take notice that on February 14, 2000, Central Illinois Light Company (CILCO), 300 Liberty Street, Peoria, Illinois 61202, tendered for filing with the Commission an Index of Customers under its Market Rate Power Sales Tariff and one service agreement with one new customer, EnerStar Power Corp.

CILCO requested an effective date of February 1, 2000.

Copies of the filing were served on the affected customers and the Illinois Commerce Commission.

Comment date: March 6, 2000, in accordance with Standard Paragraph E at the end of this notice.

10. PacifiCorp

[Docket No. ER00-1618-000]

Take notice that on February 14, 2000, PacifiCorp, tendered for filing in accordance with 18 CFR 35 of the Commission's Rules and Regulations, a fully executed Long-term Load Regulation Agreement (Agreement) between Hinson Power Company, Inc.(Hinson) and PacifiCorp.

Copies of this filing were supplied to the Washington Utilities and Transportation Commission and the Public Utility Commission of Oregon.

Comment date: March 6, 2000, in accordance with Standard Paragraph E at the end of this notice.

11. Wisconsin Electric Power Company

[Docket No. ER00-1619-000]

Take notice that on February 14, 2000, Wisconsin Electric Power Company (Wisconsin Electric), tendered for filing Termination of Service Agreement Nos. 39, 41 and 61 under Wisconsin Electric Power Company's Coordination Sales Tariff, FERC Electric Tariff First Revised Volume 2.

An effective date of March 1, 2000 is requested.

Copies of the filing have been served on El Paso Power Merchant Energy, L.P. and Power Company, the Michigan Public Service Commission, and the Public Service Commission of Wisconsin.

Comment date: March 6, 2000, in accordance with Standard Paragraph E at the end of this notice.

12. California Independent System Operator Corporation

[Docket No. ER00-1620-000]

Take notice that on February 14, 2000, the California Independent System Operator Corporation (ISO), tendered for filing the Big Creek Physical Scheduling Plan Agreement (Agreement) between the ISO and Southern California Edison Company (SCE), for acceptance by the Commission. The purpose of the Agreement is to govern the treatment of SCE's Big Creek Hydroelectric Project, which consists of 23 Generating Units, as a single Physical Scheduling Plant for purposes of providing Regulation to the ISO.

The ISO states that this filing has been served upon SCE, the California Electricity Oversight Board, and the California Public Utilities Commission.

The ISO is requesting waiver of the 60-day notice requirement to allow the Agreement to be made effective as of January 13, 2000.

Comment date: March 6, 2000, in accordance with Standard Paragraph E at the end of this notice.

13. PJM Interconnection, L.L.C.

[Docket No. ER00-1621-000]

Take notice that on February 14, 2000, PJM Interconnection, L.L.C. (PJM), tendered for filing a request to amend the Amended and Restated Operating Agreement of PJM Interconnection, L.L.C. (Operating Agreement) to waive for this year the requirement of Section 7.1 of the Operating Agreement that PJM retain an independent consultant to propose candidates for the three seats on PJM's Board of Managers (PJM Board) for which an election is required at PJM's 2000 Annual Meeting. PJM states that the requested amendment has been approved by the PJM Members Committee.

PJM requests that its filing become effective on April 14, 2000.

Copies of this filing were served upon all PJM Members and all electric utility regulatory commissions in the PJM Control Area.

Comment date: March 6, 2000, in accordance with Standard Paragraph E at the end of this notice.

14. Entergy Services, Inc.

[Docket No. ER00-1622-000]

Take notice that on February 14, 2000, Entergy Services, Inc. (Entergy), on behalf of Entergy Gulf States, Inc. (Entergy Gulf States), tendered for filing an Interconnection and Operating Agreement between Entergy Gulf States and Carville Energy LLC.

Comment date: March 6, 2000, in accordance with Standard Paragraph E at the end of this notice.

15. South Carolina Electric & Gas Company Minergy Neenah, LLC

[Docket Nos. ER00-1623-000 and ER00-1627-000]

Take notice that on February 14, 2000, the above-mentioned affiliated power producers and/or public utilities filed their quarterly reports for the quarter ending December 31, 1999.

Comment date: March 8, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-4550 Filed 2-25-00; 8:45 am]

BILLING CODE 6717-01-P